DEPARTMENT OF HOMELAND SECURITY

Coast Guard

[USCG-2005-22235]

Towing Safety Advisory Committee

AGENCY: Coast Guard, DHS.

ACTION: Notice of meeting.

SUMMARY: The Licensing Implementation Working Group of the Towing Safety Advisory Committee (TSAC) will meet to discuss matters relating to specific issues of towing safety. The meeting will be open to the public.

DATES: The Licensing Implementation Working Group will meet via teleconference on Friday, September 2, 2005 from 10 a.m. to approximately 12 noon EDT. Written material and requests to make oral presentations should reach the TSAC working group Chairperson on or before August 30, 2005.

ADDRESSES: The Working Group will meet via conference call only. Contact Ms. Jennifer Carpenter, working group Chairperson, or her assistant, Ms. Amy Hewett at 703-841-9300 for the conference call telephone number and access code. Send written material and requests to make oral presentations to Ms. Jennifer Carpenter; American Waterways Operators; 801 North Quincy Street, Suite 200; Arlington, VA 22209. This notice and related documents are available on the Internet at http://dms.dot.gov under the docket number USCG-2005-22235.

FOR FURTHER INFORMATION CONTACT: For general TSAC information you may also contact Mr. Gerald Miante, Assistant Executive Director of TSAC, telephone 202-267-0214, fax 202-267-4570, or e-mail gmiante@comdt.uscg.mil. If you plan to participate in this meeting, please notify both Mr. Miante and either Ms. Carpenter or Ms. Hewett by August 30, 2005.

SUPPLEMENTARY INFORMATION: Notice of these meetings is given under the Federal Advisory Committee Act, 5 U.S.C. App. 2 (Pub. L. 92-463, 86 Stat.770, as amended).

Agenda of Working Group Meeting

The agenda for the Licensing Working Group tentatively includes the following items:

(1) Time frame flexibility—

• Credit apprentice mate/steersman time at higher rate if individual is carried as an extra person;

• Model course;

(2) Combine inland and Western Rivers routes;

(3) Ability to upgrade from tonnage-limited Master of Towing Vessels to Master of Towing Vessels without tonnage Limitation;

(4) Require towing endorsement for Master of Steam or Motor Vessels of Not More Than 500 Gross Tons. (Current regs allow Master 500 to operate towing vessels if he/she has either a towing endorsement or a completed Towing Officer's Assessment Record (TOAR.);

(5) Clarify how Master of Towing Vessels can obtain a Standards of Training, Certification and Watchkeeping (STCW) certificate if needed;

(6) Reconcile apparent discrepancies between licensing regulations and Navigation and Vessel Inspection Circular (NVIC) 4-01 Licensing and Manning for Officers of Towing Vessels re. TOAR format;

(7) Clarify TOAR requirements for harbor tug operators. Can certain items be marked “Not Applicable” (N/A)?;

(8) Reconsider elements that may prolong time needed to complete a TOAR (e.g., operate in high water, high wind.);

(9) Work with the Coast Guard to develop a communications plan aimed at mariners; and

(10) Proposed changes to NVIC 4-01. A letter proposing changes is attached; the NVIC can be found on-line at: http://www.uscg.mil/hq/g-m/nvic/index00.htm#2001.

Procedural

The meeting is open to the public. Please note that the meeting may close early if all business is finished. At the Chair's discretion, members of the public may make oral presentations during the meeting. If you would like to make an oral presentation at the meeting, please notify the working group Chairperson (as provided above in ADDRESSES no later than August 30, 2005. Written material for distribution at the meeting should reach the Chairperson no later than August 30, 2005.

Information on Services for Individuals With Disabilities

For information on facilities or services for individuals with disabilities or to request special assistance at the meeting, contact Ms. Carpenter or Ms. Hewett at the number listed in ADDRESSES as soon as possible.

Dated: August 25, 2005.
Howard L. Hime,
Acting Director of Standards, Marine Safety, Security and Environmental Protection.

[FR Doc. 05-17192 Filed 8-25-05; 12:25 pm]

BILLING CODE 4910-15-P